DEPARTMENT OF TRANSPORTATION

Coast Guard

[USCG 2001-10403]

Information Collections Under Review by the Office of Management and Budget (OMB): 2115-0503, 2115-0543, 2115-0553, 2115-0579, 2115-0094, and 2115-0582

AGENCY: Coast Guard, DOT.

ACTION: Request for comments.

SUMMARY: In compliance with the Paperwork Reduction Act of 1995, this request for comments announces that the Coast Guard has forwarded the six Information Collection Reports (ICRs) abstracted below to OMB for review and comment. Our ICRs describe the information we seek to collect from the public. Review and comment by OMB ensure that we impose only paperwork burdens commensurate with our performance of duties.

DATES: Please submit comments on or before December 20, 2001.

ADDRESSES: Please send comments to (1) the Docket Management System (DMS), U.S. Department of Transportation (DOT), room PL-401, 400 Seventh Street SW., Washington, DC 20590-0001; and (2) the Office of Information and Regulatory Affairs (OIRA), Office of Management and Budget (OMB), 725 17th Street NW., Washington, DC 20503, to the attention of the Desk Officer for the USCG.

Copies of the complete ICRs are available for inspection and copying in public docket USCG 2001-10403 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION:

Regulatory History

This request constitutes the 30-day notice required by OMB. The Coast Guard has already published [66 FR 45072 (August 27, 2001)] the 60-day notice required by OMB. That notice elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 2001-10403. Comments to OIRA are best assured of having their full effect if OIRA receives them 30 or fewer days after the publication of this request.

Information Collection Requests

1. Title: Plan Approval and Records for Vessels Carrying Oil in Bulk.

OMB Control Number: 2115-0503.

Type of Request: Extension of a currently approved collection.

Affected Public: Owners and operators of vessels.

Forms: This collection of information does not require the public to fill out Coast Guard forms, but does require the owners of vessels to submit plans, calculations, specifications and manuals to the Coast Guard Marine Safety Center for review.

Abstract: This information collection aids the Coast Guard in determining whether a vessel complies with certain standards of safety and environmental protection.

Annual Estimated Burden Hours: The estimated burden is 443 hours a year.

2. Title: Advance Notice and Certification of Adequacy for Reception Facilities.

OMB Control Number: 2115-0543.

Type of Request: Extension of a currently approved collection.

Affected Public: Owners and operators of reception facilities, and owners and operators of vessels.

Form: CG-5401, CG-5401A, CG-5401B, and CG-5401C.

Abstract: This information collection is needed to evaluate the adequacy of reception facilities before issuance of a Certificate of Adequacy. Information for the advance notice ensures effective management of reception facilities and reduces the burden to facilities and ships.

Annual Estimated Burden Hours: The estimated burden is 1,215 hours a year.

3. Title: Approval of Equivalent Equipment or Procedures Other Than Those Specified by Rule.

OMB Control Number: 2115-0553.

Type of Request: Extension of a currently approved collection.

Affected Public: Owners and operators of facilities in the Outer Continental Shelf (OCS).

Form: This collection of information does not require the public to fill out Coast Guard forms, but does require the public to submit their information by letter or e-mail.

Abstract: This information collection implements the concept of Best Available and Safest Technology provided for in section 21 of the Outer-Continental-Shelf (OCS) Lands Act, as amended. The information allows owners and operators to propose, for approval by the Coast Guard, alternative equipment or procedures that would provide a comparable level of safety.

Annual Estimated Burden Hours: The estimated burden is 50 hours a year.

4. Title: Application for Permit to Transport Municipal and Commercial Waste.

OMB Control Number: 2115-0579.

Type of Request: Extension of a currently approved collection.

Affected Public: Owners and operators of vessels.

Form: This collection of information does not require the public to fill out Coast Guard forms, but does require the owner or operator of a vessel to apply for a permit to transport waste.

Abstract: This information collection provides the basis for issuing or denying a permit for the transportation of municipal or commercial waste in the coastal waters of the United States.

Annual Estimated Burden Hours: The estimated burden is 391 hours a year.

5. Title: Safety Approval of Cargo Containers.

OMB Control Number: 2115-0094.

Type of Request: Extension of a currently approved collection.

Affected Public: Owners and manufacturers of containers, and organizations that the Coast Guard delegates to act as Approval Authorities.

Form: This collection of information does not require the public to fill out Coast Guard forms, but does require the public to formulate their own applications to apply for approval of their cargo containers.

Abstract: This information collection requires owners and manufactures of cargo containers to submit information and keep records associated with the approval and inspection of those containers. This information is needed to ensure compliance with the International Convention for Safe Containers (CSC).

Annual Estimated Burden Hours: The estimated burden is 101,732 hours a year.

6. Title: Safety of Vessels in the Commercial Fishing Industry.

OMB Control Number: 2115-0582.

Type of Request: Extension of a currently approved collection.

Affected Public: Owners, agents, individuals-in-charge of vessels in the commercial fishing industry, and insurance underwriters.

Form: This collection of information does not require the public to fill out Coast Guard forms, but does require each affected member of the public to submit a letter of attestation, an exemption request, or a request for acceptance as a qualified instructor.

Abstract: This information collection is intended to improve safety on board vessels in the commercial fishing industry.

Annual Estimated Burden Hours: The estimated burden is 8,205 hours a year.

Dated: November 9, 2001.
V.S. Crea,
Director of Information and Technology.

[FR Doc. 01-28965 Filed 11-19-01; 8:45 am]

BILLING CODE 4910-15-P